ELECTION ASSISTANCE COMMISSION

Sunshine Act Meetings; Correction

AGENCY: U.S. Election Assistance Commission.

ACTION: Sunshine Act Notice; Notice of Public Meeting Agenda; Correction

SUMMARY: The U.S. Election Assistance Commission published a document in the Federal Register on July 31, 2020, Public Meeting: U.S. Election Assistance Commission Board of Advisors Executive Officers Elections Meeting.

FOR FURTHER INFORMATION CONTACT: Kristen Muthig, Telephone: (202) 897-9285, Email: kmuthig@eac.gov.

SUPPLEMENTARY INFORMATION:

Correction

In the Federal Register on July 31, 2020, in FR Doc. 2020-16820, on page 46079 in the first column, correct the date of the Meeting to read:

DATES: September 2, 2020, 2:00 p.m.-3:30 p.m.

Amanda Joiner,
Associate Counsel, U.S. Election Assistance Commission.

[FR Doc. 2020-18045 Filed 8-17-20; 8:45 am]

BILLING CODE 6820-KF-P